DEPARTMENT OF JUSTICE

Notice of Public Comment Period for Proposed Second Amendment to Consent Decree Under the Clean Air Act

Under 28 CFR 50.7, notice is hereby given that, for a period of 30 days, the United States will receive public comments on a proposed Second Amendment to Consent Decree in United States and the State of Minnesota v. Koch Petroleum Group, L.P, (Civil Action No. 00-CV-2756), which was lodged with the United States District Court for the District of Minnesota on August 22, 2008.

The parties are amending the Consent Decree in this national, multi-facility Clean Air Act (“Act”) enforcement action against Koch Petroleum Group, L.P, now known as Flint Hills Resources, LP (“FHR”), pursuant to section 113(b) of the Clean Air Act (“CAA”), 42 U.S.C. 7413(b) (1983), amended by, 42 U.S.C. 7413(b) (Supp. 1991). The original settlement, covering three refineries, was entered by the Court on April 25, 2001, as part of EPA's Petroleum Refinery Initiative.

This proposed Second Amendment applies to the fluidized catalytic cracking unit (“FCCU”) at FHR's Corpus Christi East Refinery in Texas and allows FHR to install an alternative control technology for the reduction of nitrogen oxide (“NOX”) emissions from that unit. FHR will complete the installation by December 31, 2010, and begin meeting a more stringent annual average NOX limit of 20 parts per million (“ppm”), effective January 1, 2011. This more stringent limit will likely result in an additional 171.5 tpy reduction of NOX beyond what the original Decree required from pre-control baseline emission levels.

The Department of Justice will receive, for a period of thirty (30) days from the date of this publication, comments relating to the Second Amendment. Comments should be addressed to the Assistant Attorney General, Environment and Natural Resources Division, and either e-mailed to pubcomment-ees.enrd@usdoj.gov or mailed to P.O. Box 7611, U.S. Department of Justice, Washington, DC 20044-7611, and should refer to United States and the State of Minnesota v. Koch Petroleum Group, L.P., D.J. Ref. 90-5-2-1-07110.

During the public comment period, the Amendment may be examined on the following Department of Justice Web site, http://www.usdoj.gov/enrd/Consent_Decrees.html. A copy of the Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $1.75 (25 cents per page reproduction cost) payable to the U.S. Treasury or, if by e-mail or fax, forward a check in that amount to the Consent Decree Library at the stated address.

Maureen Katz,
Assistant Chief, Environmental Enforcement Section, Environment and Natural Resources Division.

[FR Doc. E8-19920 Filed 8-27-08; 8:45 am]

BILLING CODE 4410-15-P